DEPARTMENT OF TRANSPORTATION

Maritime Administration

[Docket No. MARAD-2019-0147]

Deepwater Port Pre-Application Meeting Guidance

AGENCY: Maritime Administration, Department of Transportation.

ACTION: Notice.

SUMMARY: The Maritime Administration (MARAD) and the United States Coast Guard (USCG) encourage parties planning to submit an application for a license to own, construct, and operate a deepwater port under the Deepwater Port Act of 1974 (DWPA) to meet with MARAD and USCG staff at least six months in advance of submitting an application in order to provide an overview of their proposed project, to discuss the details of the federal and state application and licensing process, and to introduce key personnel. As the application is developed, additional status meetings/work sessions prior to submittal are also encouraged to review progress and to address questions. At least two weeks prior to application submittal, the applicant and the USCG selected third party environmental contractor should meet with MARAD and USCG in a final pre-application project kick-off meeting to ensure all parties understand the project, review process, and roles and responsibilities, and are prepared for the application distribution for completeness review and scoping preparation. The contents of this policy notice do not have the force and effect of law and are not meant to bind the public in any way. This document is intended only to provide clarity to the public regarding agency policy.

FOR FURTHER INFORMATION CONTACT: Ms. Yvette M. Fields, Director, Office of Deepwater Port Licensing and Port Conveyance, Maritime Administration, Telephone: 202-366-0926, Email: Yvette.Fields@dot.gov, Fax: 202-366-6988.

SUPPLEMENTARY INFORMATION: The contents of this policy notice do not have the force and effect of law and are not meant to bind the public in any way. This document is intended only to provide clarity to the public regarding agency policy. The purpose of pre-application meetings is to give potential deepwater port license applicants an opportunity to meet with MARAD and USCG to discuss the details of their proposed project prior to filing a license application. During pre-application meetings, applicants will have the opportunity to present an overview of their proposed projects, learn about the application review process, and ask questions about any aspect of the approval process. Pre-application meetings are voluntary. Participation in pre-application meetings will not affect the decision on whether a license application is ultimately approved or denied.

MARAD and USCG encourage potential applicants to meet with the agencies at least six months in advance of submitting a deepwater port license application. Pre-application meetings are helpful in identifying potential deficiencies in proposed applications, enabling applicants to ultimately submit complete applications and minimize potential delays in processing. Multiple pre-application meetings/work sessions are encouraged leading up to the application submittal to review progress and address questions. MARAD and USCG further recommend that prospective applicants intending to use the USCG's third party environmental contract mechanism complete the third party environmental consultant contract process in advance of a final pre-application kick-off meeting at least two weeks prior to submittal of the application, so that the selected third party contractor may attend the pre-application meeting to become familiar with the project. This final pre-application project kickoff meeting is to ensure all parties understand their roles and responsibilities and are ready to initiate application distribution for completeness review and then subsequent full distribution for National Environmental Policy Act (NEPA) scoping. At a minimum, the pre-application project kickoff meeting should include a review and discussion of:

• The prospective applicant's proposed final project description, including the offshore and onshore components, pipeline connections, and other related components of the proposed project;

• The statutorily required Federal application review process, NEPA evaluation, and risk assessment process;

• The Federal, state and local agency contacts, elected officials, Non-Governmental Organizations, and affected public;

• The points of contact for communications between the applicant, MARAD, USCG, the third party environmental consultant and other relevant entities;

• The Federal Docket Management System that will serve as a repository of records for the proposed project application, including Federal Register notices, public comments, environmental documents, and other project related data and information;

• The prospective applicant's plans for application submittal and distribution to agencies; and

• Preliminary scoping plans for purposes of NEPA and other related laws.

Additional information on the third party environmental contractor process is available at https://www.dco.uscg.mil/Portals/9/DCO%20Documents/5p/5ps/Operating%20and%20Environmental%20Standards/OES-2/DWP/Third%20Party%20Contracting%20Handbook%20-%20Final_February%202015.pdf?ver=2017-07-26-102701-850. Additional information on the licensing process, including project milestones and timelines, is available at https://www.maritime.dot.gov/ports/deepwater-ports-and-licensing/licensing-process. To schedule a pre-application meeting with MARAD and USCG, please see FOR FURTHER INFORMATION CONTACT, above.

(Authority: 33 U.S.C. Chapter 29; 49 CFR 1.93(h).)

* * * * *

Dated: December 9, 2019.
By Order of the Maritime Administrator.
T. Mitchell Hudson, Jr.,
Secretary, Maritime Administration.

[FR Doc. 2019-26789 Filed 12-11-19; 8:45 am]

BILLING CODE 4910-81-P